DEPARTMENT OF ENERGY

Federal Energy Regulatory Commission

[Project No. 6756-008]

Sweetwater Hydroelectric, Inc.; Lower Valley, LLC; Notice of Transfer of Exemption

1. By letter filed April 24, 2015,¹ William B. Conway, Jr., Counsel for Enel Green Power North America, Inc. (EGPNA),² informed the Commission that the exemption from licensing for the Lower Valley Project, FERC No. 6756, originally issued November 9, 1982,³ has been transferred to Lower Valley, LLC, an affiliate of Enel Green Power. The project is located on the Sugar River in Sullivan County, New Hampshire. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 21 FERC ¶ 62,216, Notice of Exemption from Licensing (1982).

2. Lower Valley, LLC is now the exemptee of the Lower Valley Project, FERC No. 6756. All correspondence should be forwarded to: Lower Valley, LLC, c/o Enel Green Power North America, Inc., Attn: General Counsel, 1 Tech Drive, Suite 220, Andover, MA 01810.

Dated: May 19, 2015.
Kimberly D. Bose,
Secretary.

[FR Doc. 2015-12608 Filed 5-22-15; 8:45 am]

BILLING CODE 6717-01-P